DEPARTMENT OF ENERGY

Federal Energy Regulatory Commission

Combined Notice of Filings #1

Take notice that the Commission received the following electric corporate filings:

Docket Numbers: EC11-62-000.

Applicants: Evergreen Wind Power III, LLC, Evergreen Gen Lead, LLC.

Description: Supplemental Letter of Evergreen Wind Power III, LLC, and Evergreen Gen Lead.

Filed Date: 05/24/2011.

Accession Number: 20110524-5092.

Comment Date: 5 p.m. Eastern Time on Tuesday, June 7, 2011.

Take notice that the Commission received the following electric rate filings:

Docket Numbers: ER11-3081-000.

Applicants: Florida Power & Light Company, NextEra Energy Duane Arnold, LLC, NextEra Energy Point Beach, LLC, NextEra Energy SeaBrook, LLC..

Description: Response of NextEra Nuclear Affiliates to the Data Request of Commission Staff.

Filed Date: 05/20/2011.

Accession Number: 20110520-5169.

Comment Date: 5 p.m. Eastern Time on Friday, June 10, 2011.

Docket Numbers: ER11-3192-001.

Applicants: The Dayton Power and Light Company.

Description: The Dayton Power and Light Company submits tariff filing per 35.37: FERC Electric Tariff, Volume No. 10 to be effective 3/26/2011.

Filed Date: 05/24/2011.

Accession Number: 20110524-5101.

Comment Date: 5 p.m. Eastern Time on Tuesday, June 14, 2011.

Docket Numbers: ER11-3193-001.

Applicants: The Dayton Power and Light Company.

Description: The Dayton Power and Light Company submits tariff filing per 35.37: FERC Electric Tariff, Volume No. 6 to be effective 3/26/2011.

Filed Date: 05/24/2011.

Accession Number: 20110524-5105.

Comment Date: 5 p.m. Eastern Time on Tuesday, June 14, 2011.

Docket Numbers: ER11-3194-001.

Applicants: DPL Energy, LLC.

Description: DPL Energy, LLC. submits tariff filing per 35.37: FERC Rate Schedule No. 1 to be effective 3/26/2011.

Filed Date: 05/24/2011.

Accession Number: 20110524-5108.

Comment Date: 5 p.m. Eastern Time on Tuesday, June 14, 2011.

Docket Numbers: ER11-3384-001.

Applicants: PJM Interconnection, L.L.C.

Description: PJM Interconnection, L.L.C. submits tariff filing per 35: Amendment to Compliance Filing submitted in EL08-47-006 re-Docketed as ER11-3384 to be effective 4/16/2011.

Filed Date: 05/24/2011.

Accession Number: 20110524-5126.

Comment Date: 5 p.m. Eastern Time on Tuesday, June 14, 2011.

Docket Numbers: ER11-3630-000.

Applicants: Midwest Independent Transmission System Operator, Inc.

Description: Midwest Independent Transmission System Operator, Inc. submits tariff filing per 35.13(a)(2)(iii): OVEC KK-1 Agreement to be effective 6/1/2011.

Filed Date: 05/24/2011.

Accession Number: 20110524-5095.

Comment Date: 5 p.m. Eastern Time on Tuesday, June 14, 2011.

Docket Numbers: ER11-3631-000.

Applicants: Interstate Power and Light Company.

Description: Interstate Power and Light Company submits tariff filing per 35: IPL RES-5 Baseline Tariff Compliance Filing to be effective 8/26/2010.

Filed Date: 05/24/2011.

Accession Number: 20110524-5111.

Comment Date: 5 p.m. Eastern Time on Tuesday, June 14, 2011.

Docket Numbers: ER11-3632-000.

Applicants: PacifiCorp.

Description: PacifiCorp submits tariff filing per 35.13(a)(2)(iii): CEP Funding Long Term Conditional Firm PTP to be effective 12/1/2013.

Filed Date: 05/24/2011.

Accession Number: 20110524-5123.

Comment Date: 5 p.m. Eastern Time on Tuesday, June 14, 2011.

Docket Numbers: ER11-3633-000.

Applicants: California Independent System Operator Corporation.

Description: California Independent System Operator Corporation submits tariff filing per 35.13(a)(2)(iii) 2011-05-24 Amended and Restated UDCOA between CAISO and Banning, to be effective 7/24/2011.

Filed Date: 05/24/2011.

Accession Number: 20110524-5128.

Comment Date: 5 p.m. Eastern Time on Tuesday, June 14, 2011.

Docket Numbers: ER11-3634-000.

Applicants: KES Kingsburg, L.P.

Description: KES Kingsburg, L.P. submits tariff filing per 35.12: Baseline New to be effective 8/1/2011.

Filed Date: 05/24/2011.

Accession Number: 20110524-5127.

Comment Date: 5 p.m. Eastern Time on Tuesday, June 14, 2011.

Take notice that the Commission received the following electric securities filings:

Docket Numbers: ES11-24-000.

Applicants: Upper Peninsula Power Company.

Description: Amendment to Upper Peninsula Power Company's Application for Renewed Authorization to Issue Short-term Debt.

Filed Date: 05/24/2011.

Accession Number: 20110524-5144.

Comment Date: 5 p.m. Eastern Time on Friday, June 3, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Dated: May 25, 2011.
Nathaniel J. Davis, Sr.,
Deputy Secretary.

[FR Doc. 2011-13468 Filed 5-27-11; 8:45 am]

BILLING CODE 6717-01-P